DEPARTMENT OF THE INTERIOR

Fish and Wildlife Service

Extension of Approved Information Collection, OMB Number 1018-0093, on Permit Applications

AGENCY: Fish and Wildlife Service, Interior.

ACTION: Notice; request for comments.

SUMMARY: The U.S. Fish and Wildlife Service is announcing its intention to request renewal of its existing approval to collect certain information from applicants who wish to obtain a permit to conduct activities under a number of wildlife conservation laws, treaties and regulations. We will submit the collection of information listed below to the Office of Management and Budget (OMB) for approval under the provisions of the Paperwork Reduction Act of 1995. If you wish to obtain copies of the proposed information collection requirement, related forms, and explanatory material, contact the Collection Clearance Officer at the address listed below.

DATES: You must submit comments on or before September 5, 2000.

ADDRESSES: Send your comments and suggestions on specific requirements to the Collection Clearance Officer, U.S. Fish and Wildlife Service, MS 222-ARLSQ; 4401 N. Fairfax Drive, Arlington, VA 22203.

FOR FURTHER INFORMATION CONTACT: To request a copy of the information collection request, explanatory information and related forms, contact Rebecca A. Mullin, Collection Clearance Officer at 703-358-2287, or electronically to rmullin@fws.gov.

SUPPLEMENTARY INFORMATION: OMB regulations at 5 CFR 1320, which implement provisions of the Paperwork Reduction Act of 1995 (Pub. L. 104-13), require that interested members of the public and affected agencies have an opportunity to comment on information collection and recordkeeping activities [see 5 CFR 1320.8(d)]. We plan to submit a request to OMB to renew its approval of the collection of information for the Service's license/permit application form number 3-200-19 through 3-200-25 and 3-200-27 through 3-200-53. We are requesting a 3-year term of approval for this information collection activity.

We modified the format of the first page of the application form so that the information fields on the form correspond to the data fields in our Service-wide permits issuance and tracking computer system. We also modified the format and content of the supplemental page(s) of the application forms for clarity and to be less burdensome to complete.

We invite comments concerning this renewal on: (1) Whether the collection of information is necessary for the proper performance of the functions of the agency, including whether the information will have practical utility; (2) the accuracy of the agency's estimate of burden, (3) ways to enhance the quality, utility and clarity of the information to be collected; and (4) ways to minimize the burden of the collection of information on those who are to respond. The information collections in this program are part of a system of record covered by the Privacy Act [5 U.S.C. 552 (a)].

The information on the application and the attachments will be used by the Service to review permit applications and allow the Service to make an assessment according to criteria established in various Federal wildlife conservation laws, treaties and regulations, on the issuance, suspension, revocation or denial of permits.

Federal agencies may not conduct or sponsor, and a person is not required to respond to, a collection of information unless it displays a currently valid OMB control number. The OMB control number for this collection of information is 1018-0093.

The information collection requirements in this submission implement the regulatory requirements of the Endangered Species Act (16 U.S.C. 1539), the Migratory Bird Treaty Act (15 U.S.C. 704), the Lacey Act (18 U.S.C. 42-44), the Bald and Golden Eagle Protection Act (16 U.S.C. 668), the Convention on International Trade in Endangered Species of Wild Fauna and Flora (CITES), (27 UST 108), the Marine Mammal Protection Act (16 U.S.C. 1361-1407), and Wild Bird Conservation Act (16 U.S.C. 4901-4916), and are contained in Service regulations in Chapter I, Subchapter B of Title 50 Code of Federal Regulations (CFR). Common permit application and record keeping requirements have been consolidated in 50 CFR 13, and unique requirements of the various statutes in the applicable part as described in the table.

Permit No. | Activity | Total number of respondents | Estimated time (in hours) | Total annual burden hours | Regulation
3-200-19 | Import of Sport-Hunted Trophies of Southern African Leopard, African Elephant, and Namibian Southern White Rhinoceros | 1,000 | ¹ .333 | 333 | 50 CFR 17.40(e), 17.40(f), 23.11, 23.12 and 23.15.
3-200-20 | Import of Sport-Hunted Trophies (Appendix I of CITES and/or ESA) | 30 | 1 | 30 | 50 CFR 17.21, 17.22, 17.31, 17.32, 23.11, 23.12 and 23.15.
3-200-21 | Import of Sport-Hunted Trophies of Argali | 50 | ⁴ .750 | 37.5 | 50 CFR 17.31, 17.32 and 17.40(j).
3-200-22 | Import of Sport-Hunted Bontebok Trophies | 60 | .333 | 20 | 50 CFR 17.21 and 17.22.
3-200-23 | Export of Pre-Convention Specimens (Pre-Act or Antiques) | 800 | ³ .666 | 533 | 50 CFR 14.22, 17.4, 18.14, 23.11, 23.13(c) and 23.15.
3-200-24 | Export of Live Captive-Born Animals (Convention on International Trade in Endangered Species) | 800 | .666 | 533 | 50 CFR 23.11, 23.12 and 23.15.
3-200-25 | Export of Raptors | 100 | 2 | 200 | 50 CFR 21.21, 21.29, 23.11, 23.12 and 23.15.
3-200-27 | Export/Re-export of Wildlife (Convention on International Trade in Endangered Species) | 800 | .666 | 533 | 50 CFR 23.11, 23.12 and 23.15.
3-200-28 | Export/Re-export of Trophies by Taxidermist (Convention on International Trade in Endangered Species) | 150 | ² .5 | 75 | 50 CFR 23.11, 23.12 and 23.15.
3-200-29 | Export/Re-Export of Wildlife Samples (CITES and/or ESA) | 300 | 1 | 300 | 50 CFR 17.21, 17.22, 17.31, 17.32, 23.11, 23.12, 23.13 and 23.15.
3-200-30 | Circuses and Traveling Animal Exhibitions | 120 | 1 | 120 | 50 CFR 17.21, 17.22, 17.31, 17.32, 23.11, 23.12, 23.13 and 23.15.
3-200-31 | Introduction from the Sea (Convention on International Trade in Endangered Species) | 40 | 1 | 40 | 50 CFR 23.11, 23.12, and 23.15.
3-200-32 | Export/Re-export of Plants | 40 | 1 | 40 | 50 CFR 23.11, 23.12, 23.13 and 23.15.
3-200-33 | Certificate for Artificially Propagated Plants | 48 | 2 | 96 | 50 CFR 17.61, 17.62, 17.71, 17.72, 23.11, 23.12, 23.13 and 23.15.
3-200-34 | Export of American Ginseng | 80 | .333 | 27 | 50 CFR 23.11, 23.12, 23.13, 23.15 and 23.51.
3-200-35 | Import of Appendix-I Plants (Convention on International Trade in Endangered Species) | 2 | 1 | 2 | 50 CFR 23.11, 23.12, 23.13 and 23.15.
3-200-36 | Export/Import/Interstate and Foreign Commerce of Plants (ESA and/or CITES) | 2 | 1 | 2 | 50 CFR 17.61, 17.62, 17.71, 17.72, 23.11, 23.12 and 23.15.
3-200-37 | Export/Import/Interstate and Foreign Commerce of Animals (ESA and/or CITES) | 60 | 2 | 120 | 50 CFR 17.21, 17.22, 17.31, 17.32, 23.11, 23.12 and 23.15.
3-200-38 | Import of Wildlife Samples (Appendix I of CITES and/or ESA) | 30 | 1 | 30 | 50 CFR 17.21, 17.22, 17.31, 17.32, 23.11, 23.12 and 23.15.
3-200-39 | Certificate of Scientific Exchange (Convention on International Trade in Endangered Species) | 30 | 1 | 30 | 50 CFR 23.11, 23.13(g) and 23.15.
3-200-40 | Export and Re-import of Museum Specimens (U.S. Endangered Species Act) | 10 | 1 | 10 | 50 CFR 17.21, 17.22, 17.31, 17.32, 17.61, 17.62, 17.71 and 17.72.
3-200-41 | Captive-Bred Wildlife Registration (U.S. Endangered Species Act) | 50 | 5 | 1,250 | 50 CFR 17.21(g) and 17.31.
*Note: There is an annual reporting requirement of this registration (3-200-41 50 applicants—3 hours+2hours reporting; and 3-200-41a 500 reporters—2 hours)
3-200-42 | Import/Transport of Injurious Wildlife | 20 | 2 | 40 | 50 CFR 16.22.
3-200-43 | Take/Import/Transport/Export of Marine Mammals | 20 | 4 | 120 | 50 CFR 18.11, 18.22, 18.31, 17.21, 17.22, 17.31, 17.32, 23.11, 23.12, 23.13 and 23.15.
*Note: There is an annual reporting requirement. There is not a specific required form.
Required information to be submitted is outlined on the permit (20 reporters/year at 2 hours per report).
3-200-44 | Registration of an Agent/Tannery (Marine Mammal Protection Act) | 10 | .500 | 35 | 50 CFR 18.11, 18.12 and 8.23(d).
*Note: There is an annual reporting requirement of this registration (3-200-44—.500 hours; 3-200-44a 30 reporters—1 hours).
3-200-45 | Import of Sport-Hunted Polar Bear Trophies | 100 | .500 | 50 | 50 CFR 18.11, 18.12 and 18.30.
3-200-46 | Import/Export of Personal Pets (CITES and/or Wild Bird Conservation Act) | 700 | .500 | 350 | 50 CFR 15.11, 15.12, 15.21, 15.25, 23.11, 23.12, and 23.15.
3-200-47 | Import or Birds for Scientific Research or Zoological Breeding and Display (Wild Bird Conservation Act) | 25 | 2 | 50 | 50 CFR 15.11, 15.12, 15.21, 15.22 and 15.23.
3-200-48 | Import of Birds Under an Approved Cooperative Breeding Program (Wild Bird Conservation Act) | 25 | 1 | 50 | 50 CFR 15.11, 15.12, 15.21 and 15.24.
3-200-49 | Approval of a Cooperative Breeding Program (Wild Bird Conservation Act) | 25 | 3 | 75 | 50 CFR 15.11, 15.12, 15.21 and 15.26.
3-200-50 | Approval of Scientifically Based Sustainable Use Management Plans (Convention on International Trade in Endangered Species) | 10 | 10 | 100 | 50 CFR 15.11, 15.12, 15.21 and 15.32.
3-200-51 | Approval of Foreign Breeding Facilities Under the Wild Bird Conservation Act | 20 | 12 | 240 | 50 CFR 15.11, 15.12, 15.21 and 15.41.
3-200-52 | Reissuance or Renewal of a Permit or Certificate | 400 | .250 | 100 | 50 CFR 13.21 and 13.22.
3-200-53 | Export/Re-export of Captive-Held Marine Mammals (Convention on International Trade in Endangered Species) | 30 | 2 | 60 | 50 CFR Part 18, 23.11, 23.12, 23.13 and 23.15.
¹ 20 minutes.
² 30 minutes.
³ 40 minutes.
³ 45 minutes.

Approval Number: 1018-0093.

Service Form Number: 3-200-19 through 3-200-53.

Frequency of Collection: On Occasion.

Description of Respondents: Individuals, biomedical companies, circuses, zoological parks, botanical gardens, nurseries, museums, universities, scientists, antique dealers, Exotic pet industry, hunters, taxidermists, commercial importers/exporters of wildlife and plants, freight forwarders/brokers, local, State, tribal and Federal governments.

Total Annual Burden Hours: 5606.5.

Total Annual Responses: 5987.

Dated: June 23, 2000.
Kenneth Stansell,
Acting Assistant Director—International Affairs.

[FR Doc. 00-16912 Filed 7-5-00; 8:45 am]

BILLING CODE 4310-55-P